DEPARTMENT OF HEALTH AND HUMAN SERVICES

Administration for Children and Families

[OMB No.: 0970-0323]

Submission for OMB Review; Comment Request; Child Care Development Fund (CCDF)—Reporting Improper Payments—Instructions for States

Section 2 of the Improper Payments Information Act of 2002 (IPIA) provides for estimates and reports of improper payments by Federal agencies. Subpart K of 45 CFR, Part 98 of the Child Care and Development Fund requires States to prepare and submit a report of errors occurring in the administration of CCDF grant funds once every three years.

The Office of Child Care (OCC) is completing the fourth 3-year cycle of case record reviews to meet the requirements for reporting under IPIA. The current data collection forms and instructions expire August 31, 2018. As part of the renewal process, OCC has revised the document with minor changes that do not change the methodology, but which provide respondents with additional guidance, clarification, and support to facilitate the completeness and accuracy of the required data submissions. In addition, questions regarding state processes that previously existed in Section III Creating the Sampling Decisions, Assurances, and Fieldwork Preparation Plan on page 5, have been reformatted into a template to facilitate the submission of this information. Two questions added are a description of the process for determining the annual amount of payments and the projected start date for conducting the case record reviews.

OCC is particularly interested in feedback regarding the ease and accuracy with which respondents that pool or combine funds can provide data regarding the pooled funds. Items addressing pooled funds are located primarily in Section VII Completing and Submitting the State Improper Payments Report on pages 43-45 and in the State Improper Payments Report template (Attachment 3) beginning on page 65.

Respondents: State grantees, the District of Columbia, and Puerto Rico.

Annual Burden Estimates
Instrument | Number of respondents | Number of responses per respondent | Average burden hours per response | Total burden hours
Sampling Decisions, Assurances, and Fieldwork Preparation Plan | 17 | 1 | 106 | 1802
Record Review Worksheet | 17 | 276 | 6.33 | 29,700.36
State Improper Payments Report | 17 | 1 | 639 | 10,863
Corrective Action Plan | 8 | 1 | 156 | 1248

Estimated Total Annual Burden Hours: 43,613.36.

Additional Information: Copies of the proposed collection may be obtained by writing to the Administration for Children and Families, Office of Planning, Research and Evaluation, 330 C Street SW, Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2018-14705 Filed 7-9-18; 8:45 am]

BILLING CODE 4184-43-P